DEPARTMENT OF COMMERCE

International Trade Administration

[A-580-816]

Certain Corrosion-Resistant Carbon Steel Flat Products From the Republic of Korea: Notice of Court Decisions Not in Harmony With Final Results of Administrative Review and Notice of Amended Final Results of Administrative Review; 2006-2007

SUMMARY: On August 8, 2013, the United States Court of International Trade (“CIT” or “Court”) enter final judgments sustaining the Department of Commerce's (“Department”) final results of the remand redeterminations ¹ relating to the fourteenth administrative review of the antidumping duty order on certain corrosion-resistant carbon steel flat products (“CORE”) from the Republic of Korea (“Korea”), pursuant to the CIT's remand orders in Union Steel v. United States, 755 F. Supp. 2d 1304 (CIT 2011) (“Union I”), and United States Steel Corp. v. United States, 759 F. Supp. 2d 1349 (Ct. Int'l Trade 2011) (“U.S. Steel I”). Consistent with the decision of the United States Court of Appeals for the Federal Circuit (“CAFC”) in Timken Co. v. United States, 893 F.2d 337 (Fed. Cir. 1990) (“Timken”), as clarified by Diamond Sawblades Mfrs. Coalition v. United States, 626 F.3d 1374 (Fed. Cir. 2010) (“Diamond Sawblades”), the Department is notifying the public that the final CIT judgments in this case are not in harmony with the Department's final results of administrative review and is amending its final results of the administrative review of the antidumping duty order on CORE from Korea covering the period of review (“POR”) of August 1, 2006 through July 31, 2007, with respect to the weighted-average dumping margin assigned to Union Steel Manufacturing Co., Ltd. (“Union”).

¹ See Final Remand Results of Redetermination Pursuant to Remand, CIT Court No. 09-00130 (July 15, 2011) (“Union Remand Results”); Final Remand Results of Redetermination Pursuant to Remand, CIT Court No. 09-00156 (July 15, 2011) (“U.S. Steel Remand Results”).

DATES: Effective August 19, 2013.

FOR FURTHER INFORMATION CONTACT: Christopher Hargett, Office 8, AD/CVD Operations, Import Administration, International Trade Administration, U.S. Department of Commerce, 14th Street and Constitution Avenue NW., Washington, DC 20230; telephone: (202) 482-4161.

SUPPLEMENTARY INFORMATION:

Background

The Department published the final results of the fourteenth administrative review of the antidumping duty order on CORE from Korea on March 16, 2009.² Union, United States Steel Corporation, and Nucor Corporation respectively filed timely complaints with the CIT to challenge various aspects of the Final Results.

² See Certain Corrosion-Resistant Carbon Steel Flat Products from the Republic of Korea: Notice of Final Results of the Fourteenth Administrative Review and Partial Rescission, 74 FR 11082 (March 16, 2009) (“Final Results”), amended by Certain Corrosion-Resistant Carbon Steel Flat Products from the Republic of Korea: Notice of Amended Final Results of the Fourteenth Antidumping Duty Administrative Review, 74 FR 19199 (April 28, 2009) (amending with respect to Dongbu Steel Co., Ltd., Hyundai HYSCO, Pohang Iron & Steel Co., Ltd., and Pohang Coated Steel Co., Ltd.).

On February 15, 2011, the Court remanded for the Department to reconsider its positions with regard to the model-match criteria as applied to Union, the major input adjustment as applied to Union, and certain adjustments to Union's substrate purchases.³ On July 15, 2011, the Department filed remand redeterminations in which it revised its position with regard to the model-match criteria and purchases of substrate steel and material purchases as applied to Union.⁴ Accordingly, the Department recalculated Union's weighted-average margin from 7.56 percent in the Final Results to 7.45 percent.⁵ On April 25, 2012, the Court sustained the Department's remand redeterminations regarding the model-match criteria and substrate steel and material purchases as applied to Union.⁶ On August 8, 2013, after disposition of remaining issues, the Court entered final judgments.⁷

³ See Union I and U.S. Steel I.

⁴ See Union Remand Results and U.S. Steel Remand Results.

⁵ Id.

⁶ See Union Steel v. United States, 836 F. Supp. 2d 1382 (CIT 2012); United States Steel Corp. v. United States, 844 F. Supp. 2d 1334 (CIT 2012).

⁷ See Union Steel v. United States, Court No. 09-00130, Slip Op. 13-104 (CIT August 8, 2013); United States Steel Corp. v. United States, Consol. Court No. 09-00156, Slip Op. 13-103 (CIT August 8, 2013).

Timken Notice

In its decision in Timken, as clarified by Diamond Sawblades, the CAFC held that, pursuant to section 516A(c) of the Tariff Act of 1930, as amended (“the Act”), the Department must publish a notice of a court decision that is not “in harmony” with a Department determination and must suspend liquidation of entries pending a “conclusive” court decision. The CIT's August 8, 2013, judgments in this case constitute final decisions of that court that are not in harmony with the Department's final results of the administrative review. This notice is published in fulfillment of the publication requirements of Timken. Accordingly, the Department will continue the suspension of liquidation of the subject merchandise pending expiration of the period of appeal or, if appealed, pending a final and conclusive court decision. Because the antidumping duty order on CORE from Korea has been revoked effective February 14, 2012, cash deposits are no longer in effect.⁸

⁸ See Corrosion-Resistant Carbon Steel Flat Products from Germany and the Republic of Korea: Revocation of Antidumping and Countervailing Duty Orders, 78 FR 16832 (March 19, 2013)

Amended Final Results

Because there are now final court decisions with respect to this case, the Department is amending its Final Results with respect to Union's weighted-average dumping margins for the period August 1, 2006 through July 31, 2007.⁹ The revised weighted-average dumping margin is as follows:

⁹ The remaining weighted-average dumping margins from the Final Results, as subsequently amended, remain unchanged.

Manufacturer/exporter | Weighted-average dumping margin (percent)
Union Steel | 7.45

In the event that the CIT's ruling is not appealed, or if appealed, upheld by the CAFC, the Department will instruct CBP to liquidate entries of subject merchandise in accordance with 19 CFR 351.212(b).¹⁰

¹⁰ See Final Results, 74 FR 11083.

This notice is issued and published in accordance with sections 516A(e)(1), 751(a)(1), and 777(i)(1) of the Act.

Dated: September 19, 2013.
Paul Piquado,
Assistant Secretary for Import Administration.

[FR Doc. 2013-23636 Filed 9-26-13; 8:45 am]

BILLING CODE 3510-DS-P